FEDERAL RESERVE SYSTEM

Notice of Proposals to Engage in Permissible Nonbanking Activities or to Acquire Companies that are Engaged in Permissible Nonbanking Activities

The companies listed in this notice have given notice under section 4 of the Bank Holding Company Act (12 U.S.C. 1843) (BHC Act) and Regulation Y (12 CFR Part 225) to engage de novo, or to acquire or control voting securities or assets of a company, including the companies listed below, that engages either directly or through a subsidiary or other company, in a nonbanking activity that is listed in § 225.28 of Regulation Y (12 CFR 225.28) or that the Board has determined by Order to be closely related to banking and permissible for bank holding companies. Unless otherwise noted, these activities will be conducted throughout the United States.

Each notice is available for inspection at the Federal Reserve Bank indicated. The notice also will be available for inspection at the offices of the Board of Governors. Interested persons may express their views in writing on the question whether the proposal complies with the standards of section 4 of the BHC Act. Additional information on all bank holding companies may be obtained from the National Information Center website at www.ffiec.gov/nic/.

Unless otherwise noted, comments regarding the applications must be received at the Reserve Bank indicated or the offices of the Board of Governors not later than July 8, 2004.

A. Federal Reserve Bank of New York (Jay Bernstein, Bank Supervision Officer) 33 Liberty Street, New York, New York 10045-0001:

1. NRW.Bank and and WestLB AG, both of Duesseldorf, Germany; to engage in:

Making, acquiring, brokering, or servicing loans or other extensions of credit for the bank holding company's own account or for the account of others in accordance with Section 225.28(b)(1);

Engaging under contract with a third party in asset management, servicing and collection of assets of a type that an insured depository institution may originate and own in accordance with Section 225.28(b)(2)(vi);

Leasing personal property or acting as agent, broker, or adviser in leasing such property, subject to the restrictions set forth in Section 225.28(b)(3)(i) and (ii) and the footnotes thereto;

Furnishing general economic information and advice, general economic statistical forecasting services, and industry studies in accordance with Section 225.28(b)(6)(ii);

Providing advice in connection with financing transactions and similar transactions and conducting financial feasibility studies in accordance with Section 225.28(b)(6)(iii);

Providing securities brokerage services in accordance with Section 225.28(b)(7)(i);

Acting as riskless principal in securities transactions in accordance with Section 225.28(b)(7)(ii);

Acting as agent in the provision of private placement services in accordance with Section 225.28(b)(7)(iii); and

Providing to customers as agent transactional services with respect to swaps and similar transactions in accordance with Section 225.28(b)(7)(v).

Board of Governors of the Federal Reserve System, June 17, 2004.
Robert deV. Frierson,
Deputy Secretary of the Board.

[FR Doc.04-14105 Filed 6-21-04; 8:45 am]

BILLING CODE 6210-01-S